DEPARTMENT OF HEALTH AND HUMAN SERVICES

Food and Drug Administration

FDA Food Labeling and Allergen Declaration; Public Workshop; Correction

AGENCY: Food and Drug Administration, HHS.

ACTION: Notice; correction.

SUMMARY: The Food and Drug Administration (FDA) is correcting a notice that appeared in the Federal Register of December 21, 2001 (66 FR 65976). The notice announced a public workshop entitled “FDA Food Labeling and Allergen Declaration; Public Workshop” intended to provide information about FDA food regulations, food labeling allergen declaration, good manufacturing practices, and other related matters to the regulated industry, particularly small businesses and start-ups. The notice was published with an inadvertent error. This document corrects that error.

FOR FURTHER INFORMATION CONTACT: David Arvelo, Food and Drug Administration, 7920 Elmbrook Dr., Suite 102, Dallas, TX 75247, 214-655-8100, ext. 133.

SUPPLEMENTARY INFORMATION: In FR Doc. 01-31572, appearing on pages 65976 at 65977 in the Federal Register of Friday, December 21, 2001, the following correction is made:

1. On page 65977, in the first column, the “Transcripts” portion of the notice is removed.

Dated: January 11, 2002.
Margaret M. Dotzel,
Associate Commissioner for Policy.

[FR Doc. 02-1280 Filed 1-14-02; 3:50 pm]

BILLING CODE 4160-01-S